DEPARTMENT OF EDUCATION

[Docket No.: ED-2024-SCC-0025]

Agency Information Collection Activities; Submission to the Office of Management and Budget for Review and Approval; Comment Request; Student Assistance General Provision Subpart I Immigration Status Confirmation

AGENCY: Federal Student Aid (FSA), Department of Education (ED).

ACTION: Notice.

SUMMARY: In accordance with the Paperwork Reduction Act (PRA) of 1995, the Department is proposing an extension without change of a currently approved information collection request (ICR).

DATES: Interested persons are invited to submit comments on or before May 20, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, 202-377-4018.

SUPPLEMENTARY INFORMATION: The Department is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Student Assistance General Provision Subpart I Immigration Status Confirmation.

OMB Control Number: 1845-0052.

Type of Review: An extension without change of a currently approved ICR.

Respondents/Affected Public: Private sector; State, local, and Tribal governments; individuals and households.

Total Estimated Number of Annual Responses: 118,360.

Total Estimated Number of Annual Burden Hours: 14,794.

Abstract: This request is for approval of an extension of the reporting requirements currently in the Student Assistance General Provisions, 34 CFR 668, subpart I. This subpart governs the Immigration-Status Confirmation, as authorized by section 484(g) of the Higher Education Act of 1965, as amended (HEA) (20 U.S.C. 1091). The regulations may be reviewed at 34 CFR 668, subpart I. The regulations are necessary to determine eligibility to receive program benefits and to prevent fraud and abuse of program funds. This collection updates the usage by individuals and schools. While the regulations refer to a secondary confirmation process and completion of the paper G-845 form these processes are no longer in use. The Department of Homeland Security/U.S. Citizen and Immigration Services (DHS/USCIS) replaced the paper secondary confirmation method with a fully electronic process, Systematic Alien Verification for Entitlements (SAVE) system and the use of the Third Step Verification Process.

Dated: April 16, 2024.
Kun Mullan,
PRA Coordinator, Strategic Collections and Clearance, Governance and Strategy Division, Office of Chief Data Officer, Office of Planning, Evaluation and Policy Development.

[FR Doc. 2024-08420 Filed 4-18-24; 8:45 am]

BILLING CODE 4000-01-P